DEPARTMENT OF THE INTERIOR

Bureau of Land Management

[NV-952-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10:00 a.m. on the dates indicated below.

FOR FURTHER INFORMATION CONTACT: Robert H. Thompson, Acting Chief, Branch of Geographic Services, Bureau of Land Management (BLM), Nevada State Office, 1340 Financial Blvd., P.O. Box 12000, Reno, Nevada 89520, 775-861-6541.

SUPPLEMENTARY INFORMATION: 1. The Plats of Survey of the following described lands were officially filed at the Nevada State Office, Reno, Nevada on October 12, 2000:

The plat, representing the dependent resurvey of a portion of the subdivisional lines, and the metes-and-bounds survey of the centerline of U.S. Highway 95, through section 13, Township 15 South, Range 49 East, Mount Diablo Meridian, Nevada, under Group 788, was accepted October 11, 2000.

The plat, in 3 sheets, representing the dependent resurvey of a portion of the west boundary, a portion of the subdivisional lines and the subdivision of a portion of section 18, and the metes-and-bounds survey of the centerline of U.S. Highway 95, through sections 18 and 19, Township 15 South, Range 50 East, Mount Diablo Meridian, Nevada, under Group 788, was accepted October 11, 2000.

These surveys were executed to meet certain administrative needs of the Bureau of Land Management.

2. The Supplemental Plat of the following described lands was officially filed at the Nevada State Office, Reno, Nevada on November 20, 2000:

The supplemental plat, showing a subdivision of lots 6, 7 and 13, sec. 14, Township 20 North, Range 20 East, Mount Diablo Meridian, Nevada, was accepted November 17, 2000.

This plat was prepared to meet administrative needs of the Bureau of Land Management.

3. The Plat of Survey of the following described lands was officially filed at the Nevada State Office, Reno, Nevada on November 30, 2000:

The plat, representing the dependent resurvey of a portion of the subdivisional lines and the subdivison of section 14, Township 20 North, Range 20 East, Mount Diablo Meridian, Nevada, under Group 791, was accepted November 29, 2000.

This survey was executed to meet certain administrative needs of the Bureau of Land Management.

4. The Plat of Survey of the following described lands was officially filed at the Nevada State Office, Reno, Nevada on December 21, 2000:

The plat, in 3 sheets, representing the subdivision of sections 4, 5, 6, 7, 9, 18, 19, 20, 28, and 32, Township 13 North, Range 19 East, Mount Diablo Meridian, Nevada, under Group 748, was accepted December 20, 2000.

This survey was executed to meet certain administrative needs of the U. S. Forest Service.

5. The above-listed surveys are now the basic record for describing the lands for all authorized purposes. These surveys have been placed in the open files in the BLM Nevada State Office and are available to the public as a matter of information. Copies of the surveys and related field notes may be furnished to the public upon payment of the appropriate fees.

Dated: January 12, 2001.
Robert H. Thompson,
Acting Chief Cadastral Surveyor, Nevada.

[FR Doc. 01-1887 Filed 1-23-01; 8:45 am]

BILLING CODE 4310-HC-P